DEPARTMENT OF HEALTH AND HUMAN SERVICES

Centers for Disease Control and Prevention

[Docket No. CDC-2023-0015; NIOSH 278]

Board of Scientific Counselors, National Institute for Occupational Safety and Health

AGENCY: Centers for Disease Control and Prevention (CDC), Department of Health and Human Services (HHS).

ACTION: Notice of meeting and request for comment.

SUMMARY: In accordance with regulatory provisions, the Centers for Disease Control and Prevention announces the following meeting of the Board of Scientific Counselors, National Institute for Occupational Safety and Health (BSC, NIOSH). This is a virtual meeting. It is open to the public, limited only by the number of web conference lines (500 web conference lines are available). Time will be available for public comment.

DATES: The meeting will be held on April 21, 2023, from 10 a.m. to 3 p.m., EDT.

Written comments must be received on or before April 14, 2023.

ADDRESSES: If you wish to attend the meeting, please register at the NIOSH website at https://www.cdc.gov/niosh/bsc/ or by telephone at (202) 245-0649 no later than April 14, 2023.

You may submit comments, identified by Docket No. CDC-2023-0015; NIOSH-278 by either of the methods listed below. CDC does not accept comments by email.

• Federal eRulemaking Portal: https://www.regulations.gov. Follow the instructions for submitting comments.

• Mail: Ms. Sherri Diana, NIOSH Docket Office, National Institute for Occupational Safety and Health, 1090 Tusculum Avenue, Mailstop C-34, Cincinnati, Ohio 45226. Attn: Docket No. CDC-2023-0015; NIOSH-278.

Instructions: All submissions received must include the Agency name and docket number. Docket number CDC-2023-0015; NIOSH-278 will close April 14, 2023.

FOR FURTHER INFORMATION CONTACT: Maria Strickland, M.P.H., Designated Federal Officer, BSC, NIOSH, CDC, Patriots Plaza 1, 395 E Street SW, Suite 9200, Washington, DC 20201; Telephone: (202) 245-0649; Email: MStrickland2@cdc.gov.

SUPPLEMENTARY INFORMATION:

Background: The Secretary of Health and Human Services, the Assistant Secretary for Health, and by delegation the Director, Centers for Disease Control and Prevention, are authorized under Sections 301 and 308 of the Public Health Service Act to conduct directly, or by grants or contracts, research, experiments, and demonstrations relating to occupational safety and health and to mine health.

Purpose: The Board of Scientific Counselors, National Institute for Occupational Safety and Health (BSC, NIOSH) provides advice to the Director, National Institute for Occupational Safety and Health, on NIOSH research and prevention programs. The Board also provides guidance on the Institute's research activities related to developing and evaluating hypotheses, systematically documenting findings, and disseminating results. In addition, the Board evaluates the degree to which the activities of NIOSH: (1) conform to those standards of scientific excellence appropriate for federal scientific institutions in accomplishing objectives in occupational safety and health; (2) address currently relevant needs in the fields of occupational safety and health either alone or in conjunction with other known activities inside and outside of NIOSH; and (3) produce their intended results in addressing important research questions in occupational safety and health, both in terms of applicability of the research findings and dissemination of the findings.

Matters to be Considered: The agenda for the meeting addresses Per- and Polyfluoroalkyl Substances and Occupational Safety and Health Economics. Agenda items are subject to change as priorities dictate.

The agenda is also posted on the NIOSH website at https://www.cdc.gov/niosh/bsc/.

Public Participation

Written Public Comment: Written comments will be accepted per the instructions provided in the addresses section above. Comments received in advance of the meeting are part of the public record and are subject to public disclosure. Written comments will be included in the official record of the meeting. Do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near-duplicate examples of a mass-mail campaign. CDC will carefully consider all comments submitted into the docket.

Written comments received by April 14, 2023, will be provided to the Board prior to the meeting.

Oral Public Comment: The public is welcome to participate during the public comment period, from 1:30 p.m. to 1:45 p.m., EDT, April 21, 2023. Each commenter will be provided up to five minutes for comment. A limited number of time slots are available and will be assigned on a first-come, first-served basis. Members of the public who wish to address the BSC, NIOSH are requested to contact the Designated Federal Officer for scheduling purposes (see FOR FUTHER INFORMATION CONTACT above).

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-04701 Filed 3-7-23; 8:45 am]

BILLING CODE 4163-18-P